DEPARTMENT OF COMMERCE

International Trade Administration

Export Trade Certificate of Review

ACTION: Notice of Application to Amend Certificate.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Morton Schnabel, Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington DC 20230. Information submitted by any person is exempt from disclosure under the Freedom of Information Act (5 U.S.C. 552). However, nonconfidential versions of the comments will be made available to the applicant if necessary for determining whether or not to issue the certificate. Comments should refer to this application as “Export Trade Certificate of Review, application number 94-3A007.”

Florida Citrus Exports, L.C.'s original Certificate was issued on February 23, 1995 (60 FR 12735, March 8, 1995), and lastly amended on May 5, 1998 (63 FR 25833, May 11, 1998). A summary of the application for an amendment follows.

Summary of the Application

Applicant: Florida Citrus Exports, L.C (“FCE”), c/o Mr. Charles Sanders, Jr., Attorney at Law, 1485 50th Court, Vero Beach, Florida 32966.

Contact: Charles Sanders, Jr., Telephone: (561) 770-4685.

Application No.: 94-3A007.

Date Deemed Submitted: February 8, 2000.

Proposed Amendment: FCE seeks to amend its Certificate to:

(1) Add the following companies as new “Members” of the Certificate within the meaning of section 325.2(1) of the Regulations (15 CFR 325.2(1)): Harbor Island Citrus, Inc., Vero Beach, FL (Controlling Entity: First Atlantic Citrus, Inc., Vero Beach, FL); Minton Sun, Inc., Ft. Pierce, FL (Controlling Entity: Triple M Investment Company, Ft. Pierce, FL) and Seald Sweet LLC, Vero Beach, FL and

(2) Change the listing of the name of the “Member” Florida Fresh Citrus Sales, Inc. to River One International Marketing, Inc to reflect the current name of the corporation.

Dated: February 15, 2000.
Morton Schnabel,
Director, Office of Export Trading Company Affairs.

[FR Doc. 00-4137 Filed 2-22-00; 8:45 am]

BILLING CODE 3510-DR-P